DEPARTMENT OF COMMERCE

International Trade Administration

[A-469-815]

Finished Carbon Steel Flanges From Spain: Final Results of Antidumping Duty Administrative Review; 2021-2022

AGENCY: Enforcement and Compliance, International Trade Administration, Department of Commerce.

SUMMARY: The U.S. Department of Commerce (Commerce) determines that ULMA Forja, S.Coop (ULMA) and companies not selected for individual examination made sales of finished carbon steel flanges (flanges) from Spain in the United States at less than normal value (NV) during the period of review (POR) June 1, 2021, through May 31, 2022.

DATES: Applicable December 20, 2023.

FOR FURTHER INFORMATION CONTACT: Carolyn Adie or Mark Flessner, AD/CVD Operations, Office VI, Enforcement and Compliance, International Trade Administration, U.S. Department of Commerce, 1401 Constitution Avenue NW, Washington, DC 20230; telephone: (202) 482-6250 or (202) 482-6312, respectively.

SUPPLEMENTARY INFORMATION:

Background

On July 7, 2023, Commerce published the Preliminary Results and invited interested parties to comment.¹ In September 2023, Commerce conducted on-site verification of ULMA's sales information.² On October 12, 2023, Commerce extended the deadline for these final results of review to January 3, 2023.³ On November 24, 2023, ULMA, the sole mandatory respondent for this review,⁴ submitted its case brief.⁵ No other interested party filed a case or rebuttal brief. As the comments submitted in ULMA's case brief are addressed herein, there is no Issues and Decision Memorandum accompanying this notice. These final results cover eight companies for which an administrative review was initiated and not rescinded. Commerce conducted this review in accordance with section 751(a)(1)(B) of the Tariff Act of 1930, as amended (the Act).

¹ See Finished Carbon Steel Flanges from Spain: Preliminary Results of Antidumping Duty Administrative Review; 2021-2022, 88 FR 43307 (July 7, 2023) (Preliminary Results), and accompanying Preliminary Decision Memorandum (PDM).

² See Memorandum, “Verification of the Sales Response of ULMA Forja, S. Coop in the Antidumping Review of Finished Carbon Steel Flanges from Spain,” dated November 16, 2023 (Verification Report).

³ See Memorandum, “Extension of Deadline for Final Results of Antidumping Duty Administrative Review, 2021-2022,” dated October 12, 2023.

⁴ See Preliminary Results, 88 FR at 43307.

⁵ See ULMA's Letter, “ULMA Forja, S. Coop's Case Brief, POR 5,” dated November 24, 2023 (ULMA Case Brief).

Scope of the Order ⁶

⁶ See Finished Carbon Steel Flanges from Spain: Antidumping Duty Order, 82 FR 27229 (June 14, 2017) (Order).

The scope of this Order covers finished carbon steel flanges. Finished carbon steel flanges differ from unfinished carbon steel flanges (also known as carbon steel flange forgings) in that they have undergone further processing after forging, including, but not limited to, beveling, bore threading, center or step boring, face machining, taper boring, machining ends or surfaces, drilling bolt holes, and/or de-burring or shot blasting. Any one of these post-forging processes suffices to render the forging into a finished carbon steel flange for purposes of this Order. However, mere heat treatment of a carbon steel flange forging (without any other further processing after forging) does not render the forging into a finished carbon steel flange for purposes of this Order.

While these finished carbon steel flanges are generally manufactured to specification ASME B16.5 or ASME B16.47 series A or series B, the scope is not limited to flanges produced under those specifications. All types of finished carbon steel flanges are included in the scope regardless of pipe size (which may or may not be expressed in inches of nominal pipe size), pressure class (usually, but not necessarily, expressed in pounds of pressure, e.g., 150, 300, 400, 600, 900, 1,500, 2,500, etc.), type of face (e.g., flat face, full face, raised face, etc.), configuration (e.g., weld neck, slip on, socket weld, lap joint, threaded, etc.), wall thickness (usually, but not necessarily, expressed in inches), normalization, or whether or not heat treated. These carbon steel flanges either meet or exceed the requirements of the ASTM A105, ASTM A694, ASTM A181, ASTM A350 and ASTM A707 standards (or comparable foreign specifications). The scope includes any flanges produced to the above-referenced ASTM standards as currently stated or as may be amended. The term “carbon steel” under this scope is steel in which:

(a) iron predominates, by weight, over each of the other contained elements:

(b) the carbon content is 2 percent or less, by weight; and

(c) none of the elements listed below exceeds the quantity, by weight, as indicated:

(i) 0.87 percent of aluminum;

(ii) 0.0105 percent of boron;

(iii) 10.10 percent of chromium;

(iv) 1.55 percent of columbium;

(v) 3.10 percent of copper;

(vi) 0.38 percent of lead;

(vii) 3.04 percent of manganese;

(viii) 2.05 percent of molybdenum;

(ix) 20.15 percent of nickel;

(x) 1.55 percent of niobium;

(xi) 0.20 percent of nitrogen;

(xii) 0.21 percent of phosphorus;

(xiii) 3.10 percent of silicon;

(xiv) 0.21 percent of sulfur;

(xv) 1.05 percent of titanium;

(xvi) 4.06 percent of tungsten;

(xvii) 0.53 percent of vanadium; or

(xviii) 0.015 percent of zirconium.

Finished carbon steel flanges are currently classified under subheadings 7307.91.5010 and 7307.91.5050 of the Harmonized Tariff Schedule of the United States (HTSUS). They may also be entered under HTSUS subheadings 7307.91.5030 and 7307.91.5070. The HTSUS subheadings are provided for convenience and customs purposes; the written description of the scope is dispositive.

Verification

As provided in section 782(i) of the Act, from September 11 through 15, 2023, we conducted verification of the sales information submitted by ULMA for use in these final results. We used standard verification procedures, including an examination of relevant sales and accounting records, and original source documents provided by ULMA.⁷

⁷ Verification Report.

Changes Since the Preliminary Results and Analysis of Comments Received

Based on our analysis of the comments received, we made one change to the preliminary weighted-average margin calculations for ULMA and the non-examined companies. In its case brief, ULMA argued that we should rely on the databases that ULMA submitted, at Commerce's request, following verification.⁸ We are incorporating into these final results the relevant databases, which reflect changes based on the minor corrections ULMA submitted at verification.⁹ For additional details, see the Final Analysis Memorandum.¹⁰

⁸ See ULMA Case Brief at 1-2.

⁹ See Verification Report at 2-3.

¹⁰ See Memorandum, “Analysis of Data Submitted by ULMA Forja S. Coop. for Final Results of Antidumping Duty Administrative Review; 2021-2022,” dated concurrently with, and hereby adopted by, this notice (Final Analysis Memorandum).

Non-Individually Examined Companies

For guidance when calculating the rate for non-selected respondents, i.e., non-individually-examined companies, in an administrative review, generally, Commerce looks to section 735(c)(5) of the Act, which provides instructions for calculating the all-others rate in a market economy investigation. Under section 735(c)(5)(A) of the Act, the all-others rate is normally “an amount equal to the weighted-average of the estimated weighted-average dumping margins established for exporters and producers individually investigated, excluding any zero or de minimis margins, and any margins determined entirely {on the basis of facts available}.” We calculated a margin for ULMA that was not zero, de minimis, or based on facts available. Accordingly, we have applied the margin calculated for ULMA to the non-individually examined respondents.

Final Results of Administrative Review

For these final results, we determine that the following weighted-average dumping margins exist for the period June 1, 2021, through May 31, 2022:

Producer/exporter | Weighted- average dumping margin (percent)
ULMA Forja, S. Coop | 3.93
Review-Specific Rate for the Non-Selected Companies
Aleaciones De Metales Sinterizados S.A | 3.93
Central Y Almacenes | 3.93
Farina Group Spain | 3.93
Friedrich Geldbach Gmbh | 3.93
Grupo Cunado | 3.93
Transglory S.A | 3.93
Tubacero, S.L | 3.93

Disclosure

Commerce intends to disclose the calculations performed in connection with these final results of review to interested parties within five days of the date of publication of this notice in the Federal Register, in accordance with 19 CFR 351.224(b).

Assessment Rates

Commerce shall determine and U.S. Customs and Border Protection (CBP) shall assess antidumping duties on all appropriate entries of subject merchandise in accordance with the final results of this review pursuant to section 751(a)(2)(C) of the Act and 19 CFR 351.212(b). For ULMA, we calculated importer-specific assessment rates on the basis of the ratio of the total amount of dumping calculated for each importer's examined sales and the total entered value of those sales in accordance with 19 CFR 351.212(b)(1). Where an importer-specific assessment rate is de minimis (i.e., less than 0.5 percent), the entries by that importer will be liquidated without regard to antidumping duties. For entries of subject merchandise during the POR produced by ULMA for which it did not know its merchandise was destined for the United States, we will instruct CBP to liquidate unreviewed entries at the all-others rate in the original less-than-fair-value (LTFV) investigation ¹¹ if there is no rate for the intermediate company(ies) involved in the transaction.¹² For the companies identified above that were not selected for individual examination, we will instruct CBP to liquidate entries of subject merchandise during the POR at the rates established in these final results of review as listed above.

¹¹ See Order, 82 FR at 27230.

¹² See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements for estimated antidumping duties will be effective upon publication of this notice for all shipments of flanges from Spain entered, or withdrawn from warehouse, for consumption on or after the date of publication as provided by section 751(a)(2) of the Act: (1) the cash deposit rate for the companies subject to this review will be equal to the company-specific weighted-average dumping margin established in the final results of the review; (2) for merchandise exported by producers or exporters not covered in this review but covered in a prior completed segment of the proceeding, the cash deposit rate will continue to be the company-specific rate published in the completed segment for the most recent period; (3) if the exporter is not a firm covered in this review, a prior review, or the original investigation, but the producer has been covered in a prior completed segment of this proceeding, then the cash deposit rate will be the rate established in the completed segment for the most recent period for the producer of the merchandise; (4) the cash deposit rate for all other producers or exporters will continue to be 18.81 percent, the all-others rate established in the LTFV investigation of this proceeding.¹³ These cash deposit requirements, when imposed, shall remain in effect until further notice.

¹³ See Order, 82 FR at 27230.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as a reminder to parties subject to an administrative protective order (APO) of their responsibility concerning the destruction or return of proprietary information disclosed under APO in accordance with 19 CFR 351.305(a)(3), which continues to govern business proprietary information in this segment of the proceeding. Timely written notification of the destruction or return of APO materials or conversion to judicial protective order is hereby requested. Failure to comply with the regulations and terms of an APO is a sanctionable violation.

Notification to Interested Parties

We are issuing and publishing this notice in accordance with sections 751(a)(1) and 777(i)(1) of the Act and 19 CFR 351.221(b)(5).

Dated: December 13, 2023.
Abdelali Elouaradia,
Deputy Assistant Secretary for Enforcement and Compliance.

[FR Doc. 2023-27892 Filed 12-19-23; 8:45 am]

BILLING CODE 3510-DS-P